ENVIRONMENTAL PROTECTION AGENCY

[ER-FRL-9041-1]

Environmental Impact Statements; Notice of Availability

AGENCY: Office of Federal Activities, EPA.

General Information (202) 564-7156 or https://www2.epa.gov/nepa/

Weekly receipt of Environmental Impact Statements

Filed 08/20/2018 Through 08/24/2018

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20180192, Draft, BLM, AZ, Ten West Link 500kV Transmission Line Project Draft Environmental Impact Statement and Draft Resource Management Plan Amendments, Comment Period Ends: 11/29/2018, Contact: Joseph Incardine 801-560-7135.

EIS No. 20180193, Final, DOI, AK, Liberty Development and Production Plan Beaufort Sea, Alaska Final Environmental Impact Statement, Review Period Ends: 10/01/2018, Contact: Lauren Boldrick 907-334-5200.

EIS No. 20180194, Draft, FERC, OR, Swan Lake North Pumped Storage Project, Comment Period Ends: 10/15/2018, Contact: Dianne Rodman 202-502-6077.

EIS No. 20180195, Draft, BLM, WY, Leavitt Reservoir Expansion Project, Comment Period Ends: 10/15/2018, Contact: Holly Elliott 307-347-5100.

EIS No. 20180196, Final, BLM, AK, Alpine Satellite Development Plan for the Proposed Greater Mooses Tooth 2 Development Project, Review Period Ends: 10/01/2018, Contact: Stephanie Rice 907-271-3202.

EIS No. 20180197, Draft, BLM, WY, Lost Creek Uranium In-Situ Recovery Project Modifications, Comment Period Ends: 10/15/2018, Contact: Annette Treat 307-328-4314.

EIS No. 20180199, Draft, USFWS, IA, Draft Environmental Impact Statement for Proposed Habitat Conservation Plan and Incidental Take Permit, Comment Period Ends: 10/15/2018, Contact: Kraig McPeek 309-757-5800.

EIS No. 20180199, Final Supplement, TVA, KY, Shawnee Fossil Plant Coal Combustion Residual Management, Review Period Ends: 10/01/2018, Contact: Ashley Pilakowski 865-632-2256.

EIS No. 20180200, Draft, BLM, WY, Alkali Creek Reservoir Project, Comment Period Ends: 10/15/2018, Contact: Holly Elliott 307-347-5100.

EIS No. 20180201, Final, USFS, CA, Mammoth Base Area Land Exchange, Review Period Ends: 10/15/2018, Contact: Janelle Walker 760-924-5523.

EIS No. 20180202, Final, FAA, AZ, Tucson International Airport—Airfield Safety Enhancement Project, Review Period Ends: 10/01/2018, Contact: David Kessler 424-405-7315.

Dated: August 28, 2018.
Robert Tomiak,
Director, Office of Federal Activities.

[FR Doc. 2018-18932 Filed 8-30-18; 8:45 am]

BILLING CODE 6560-50-P